FEDERAL TRADE COMMISSION

16 CFR Part 303

RIN 3084-AB28

Rules and Regulations Under the Textile Fiber Products Identification Act

AGENCY: Federal Trade Commission.

ACTION: Final rule.

SUMMARY: The Federal Trade Commission (“FTC” or “Commission”) amends the Rules and Regulations Under the Textile Fiber Products Identification Act (“Textile Rules” or “Rules”) to incorporate the most recent ISO 2076 standard for generic fiber names.

DATES: This rule is effective November 5, 2020. The incorporation by reference of certain publications listed in the rule is approved by the Director of the Federal Register as of November 5, 2020.

FOR FURTHER INFORMATION CONTACT: Jock Chung, (202) 326-2984, Attorney, Division of Enforcement, Bureau of Consumer Protection, Federal Trade Commission, 600 Pennsylvania Avenue NW, Washington, DC 20580.

SUPPLEMENTARY INFORMATION:

I. Background

The Textile Fiber Products Identification Act (“Textile Act”) ¹ and Rules require marketers to, among other things, attach a label to each covered textile product disclosing: (1) The product's generic names; (2) the percentages, by weight, of its constituent fibers; (3) the name under which the manufacturer or other responsible company does business or, in lieu thereof, the company's registered identification number; and (4) the name of the country where the product was processed or manufactured.²

¹ 15 U.S.C. 70 et seq.

² See 15 U.S.C. 70b(b).

Section 303.7 of the Textile Rules (Generic names and definitions for manufactured fibers) establishes the generic names for man-made fibers that manufacturers must disclose. This provision lists the generic names and definitions established by the Commission through its textile petition process under § 303.8, and incorporates by reference the generic names and definitions set forth in the ISO 2076 standard.

The Commission cannot automatically incorporate future changes to an incorporated standard.³ Therefore, it periodically updates the Rule's reference to the ISO standard to keep abreast of ISO 2076 amendments.⁴

³ Specifically, Office of the Federal Register regulations state that incorporation by reference is “limited to the edition of the publication that is approved,” and “future amendments or revisions of the publication are not included.” See 1 CFR 51.1(f).

⁴ See 79 FR 18766 (Apr. 4, 2014).

II. Amendments to the Textile Rules

In a Notice of Proposed Rulemaking (“NPRM”) published on February 18, 2020,⁵ the Commission proposed amending § 303.7 to incorporate the most recent version of the relevant ISO standard, ISO 2076:2013(E), “Textiles—Man-made fibres—Generic names.” This standard includes seven generic fiber names that are not defined in the currently-incorporated 2010 ISO standard: “chitin,” “ceramic,” “polybenzimidazol,” “polycarbamide,” “polypropylene/polyamide bicomponent,” “protein,” and “trivinyl.”

⁵ 85 FR 8781 (Feb. 18, 2020).

In the NPRM, the Commission noted that Commission staff had received several inquiries from manufacturers interested in using the petition process to add “chitin,” a name recognized in ISO 2076:2013(E), to the Commission's list of approved generic fiber names. The Commission stated that incorporating the updated ISO standard into the Textile Rules would resolve those requests, save both the Commission and manufacturers resources, and harmonize the two standards without the need to address other ISO recognized names individually.

The Commission did not receive any germane comments. Accordingly, based on the analysis provided in the NPRM, the Commission now amends the Textile Rules to change the Rules' current reference to the ISO 2076:2010(E) standard for generic fiber names to the updated ISO 2076:2013(E) standard.

Pursuant to the Congressional Review Act (5 U.S.C. 801 et seq.), the Office of Information and Regulatory Affairs has designated this rule as not a `major rule,' as defined by 5 U.S.C. 804(2).

III. Paperwork Reduction Act

The Textile Rules contain recordkeeping and disclosure requirements that constitute information collection requirements as defined by 5 CFR 1320.3(c), the definitional provision within the Office of Management and Budget (“OMB”) regulations that implement the Paperwork Reduction Act (“PRA”). OMB has approved the Rule's existing information collection requirements through May 31, 2021 (OMB Control No. 3084-0101). The amended Textile Rules do not impose any additional collection of information requirements.

IV. Regulatory Flexibility Act

The Regulatory Flexibility Act (RFA), 5 U.S.C. 601-612, requires that the Commission provide an Initial Regulatory Flexibility Analysis (IRFA) with a Proposed Rule, and a Final Regulatory Flexibility Analysis (FRFA) with the final Rule, unless the Commission certifies that the Rule will not have a significant economic impact on a substantial number of small entities.⁶

⁶ 5 U.S.C. 603-605.

The Commission anticipates that the final amendment will not have a significant economic impact on a substantial number of small entities. The amendment incorporates the most recent version of the relevant ISO standard for textile fiber names, ISO 2076:2013(E), and should not increase the costs of small entities that manufacture or import textile fiber products. Instead, the amendment will enable these entities to market products in the United States under seven additional fiber names. Therefore, based on available information, the Commission certifies that amending the Textile Rules will not have a significant economic impact on a substantial number of small businesses. Although the Commission certifies under the RFA that the amendment will not have a significant impact on a substantial number of small entities, the Commission has determined, nonetheless, that it is appropriate to publish a Final Regulatory Flexibility Analysis in order to explain the impact of the amendment on small entities as follows:

A. Description of the Reason for Agency Action

The Commission is amending the Rules to provide greater flexibility in complying with the Rules' disclosure requirements by permitting textile fiber product marketers to market products containing fibers defined in the updated ISO 2076:2013(E) standard.

B. Issues Raised by Comments in Response to the IRFA

The Commission did not receive any comments related to the impact of the final amendment on small businesses. In addition, the Commission did not receive any comments filed by the Chief Counsel for Advocacy of the Small Business Administration.

C. Estimate of Number of Small Entities to Which the Amendments Will Apply

Under the Small Business Size Standards issued by the Small Business Administration, textile apparel manufacturers qualify as small businesses if they have 500 or fewer employees. Clothing wholesalers qualify as small business if they have 100 or fewer employees. The Commission's staff has estimated that approximately 10,744 textile fiber product manufacturers and importers are covered by the Textile Rules' disclosure requirements.⁷ A substantial number of these entities likely qualify as small businesses. The Commission estimates that the amendment will not have a significant impact on these small businesses because it does not impose any new obligations; rather, it permits them to offer more products while complying with the Textile Rules.

⁷ 83 FR 2992, 2993 (Jan. 22, 2015).

D. Projected Reporting, Recordkeeping, and Other Compliance Requirements, Including Classes of Covered Small Entities and Professional Skills Needed To Comply

The amendment is not expected to increase any reporting, recordkeeping, or other requirements associated with the Textile Rules.

E. Description of Steps Taken To Minimize Significant Economic Impact, If Any, on Small Entities, Including Alternatives

The Commission did not propose any specific small entity exemption or other significant alternatives because the amendment is not expected to increase reporting requirements and will not impose any new requirements or compliance costs. No comments identified any new compliance costs.

V. Incorporation by Reference

Consistent with 5 U.S.C. 552(a) and 1 CFR part 51, the Commission incorporates the specifications of the following standard issued by the International Organization of Standardization (ISO): ISO 2076:2013(E), which lists the generic names used to designate the different categories of man-made fibres, based on a main polymer, currently manufactured on an industrial scale for textile and other purposes, together with the distinguishing attributes that characterize them.

This ISO standard is reasonably available to interested parties. Members of the public can obtain copies of ISO 2076:2013(E) from the International Organization for Standardization, ISO Central Secretariat, Chemin de Blandonnet 8, CP 401-1214 Vernier, Geneva, Switzerland; (+41 22 749 01 11); central@iso.org; https://www.iso.org/home.html. They can also obtain copies from the American National Standards Institute, 25 West 43rd Street, Fourth Floor, New York, NY 10036-7417; (212) 642-4900; isot@ansi.org; https://www.ansi.org. This ISO standard is also available for inspection at the FTC Library, (202) 326-2395, Federal Trade Commission, Room H-630, 600 Pennsylvania Avenue NW, Washington, DC 20580.

List of Subjects in 16 CFR Part 303

Advertising, Incorporation by reference, Labeling, Recordkeeping, Textile fiber products.

For the reasons discussed in the preamble, the Commission amends part 303 of title 16, Code of Federal Regulations, as follows:

PART 303—RULES AND REGULATIONS UNDER THE TEXTILE FIBER PRODUCTS IDENTIFICATION ACT

1. The authority citation for part 303 continues to read as follows:

Authority: 15 U.S.C. 70 et seq.

2. Amend § 303.7:

a. By revising the introductory text; and

b. In paragraph (v), by removing the words “16 CFR 303.7(c)” and adding, their place, the words “paragraph (c) of this section”.

The revision reads as follows:

§ 303.7 Generic names and definitions for manufactured fibers.

Pursuant to the provisions of section 7(c) of the Act, the Commission hereby establishes the generic names for manufactured fibers, together with their respective definitions, set forth in this section, and the generic names for manufactured fibers, together with their respective definitions, set forth in International Organization for Standardization (ISO) 2076:2013(E). ISO 2076:2013(E), “Textiles—Man-made fibres—Generic names,” Sixth edition, November 15, 2013, is incorporated by reference into this section with the approval of the Director of the Federal Register under 5 U.S.C. 552(a) and 1 CFR part 51.

To enforce any edition other than that specified in this section, the Federal Trade Commission must publish notice of change in the Federal Register and the material must be available to the public. All approved material is available for inspection at the Federal Trade Commission, 600 Pennsylvania Avenue NW, Room H-630, Washington, DC 20580, (202) 326-2222, and is available from: (a) The International Organization for Standardization, ISO Central Secretariat, Chemin de Blandonnet 8, CP 401-1214 Vernier, Geneva, Switzerland; (+41 22 749 01 11); central@iso.org; https://www.iso.org/home.html; and (b) the American National Standards Institute, 25 West 43rd Street, Fourth Floor, New York, NY 10036-7417; (212) 642-4900; isot@ansi.org; https://www.ansi.org. It is also available for inspection at the National Archives and Records Administration (NARA). For information on the availability of this material at NARA, email fedreg.legal@nara.gov, or go to http://www.archives.gov/federal-register/cfr/ibr-locations.html.

* * * * *

By direction of the Commission, Commissioner Slaughter not participating.
April J. Tabor,
Acting Secretary.

[FR Doc. 2020-19515 Filed 10-5-20; 8:45 am]

BILLING CODE 6750-01-P